DEPARTMENT OF THE INTERIOR

National Park Service

[NPS-WASO-NAGPRA-NPS0039359; PPWOCRADN0-PCU00RP14.R50000]

Notice of Intended Disposition: Arizona Army National Guard, Camp Navajo, Bellemont, AZ

AGENCY: National Park Service, Interior.

ACTION: Notice.

SUMMARY: In accordance with the Native American Graves Protection and Repatriation Act (NAGPRA), the Arizona Army National Guard intends to carry out the disposition of human remains and associated funerary objects removed from Federal or Tribal lands to the lineal descendants, Indian Tribe, or Native Hawaiian organization with priority for disposition in this notice.

DATES: Disposition of the human remains and associated funerary objects in this notice may occur on or after February 18, 2025. If no claim for disposition is received by January 20, 2026, the human remains and associated funerary objects in this notice will become unclaimed human remains and associated funerary objects.

ADDRESSES: Shelby Manney, Deputy Environmental Programs Manager, Departments of the Army and the Air Force, Joint Force Headquarters-Arizona, Arizona Army National Guard, 5636 East McDowell Road, Phoenix, AZ 85008, telephone (602) 267-2740, email manneys@emo.azdema.gov and shelby.a.manney.nfg@army.mil.

SUPPLEMENTARY INFORMATION: This notice is published as part of the National Park Service's administrative responsibilities under NAGPRA. The determinations in this notice are the sole responsibility of the Arizona Army National Guard, and additional information on the human remains and associated funerary objects in this notice, including the results of consultation, can be found in the related records. The National Park Service is not responsible for the identifications in this notice.

Abstract of Information Available

Based on the information available, human remains representing one individual have been reasonably identified. The three associated funerary objects are ceramic sherds. On November 13, 2021, an archaeological field crew encountered the individual and associated funerary objects during a cultural resource inventory of an archaeological site on Camp Navajo located in Bellemont, Coconino County, Arizona. Per installation procedures, the Coconino County Sherrif's Office was informed and subsequently determined that the discovery warranted examination by the Coconino County Office of the Medical Examiner (CCOME). On November 15, 2021, the individual and associated funerary objects were recovered as part of an investigation. CCOME officially confirmed that the discovery is archaeological on November 24, 2021. In consultation with the Indian Tribes, the Arizona Army National Guard recovered and housed the individual and associated funerary objects until final disposition.

Determinations

The Arizona Army National Guard has determined that:

• The human remains described in this notice represent the physical remains of one individual of Native American ancestry.

• The three objects described in this notice are reasonably believed to have been placed intentionally with or near individual human remains at the time of death or later as part of the death rite or ceremony.

• The Hopi Tribe of Arizona has priority for disposition of the human remains and associated funerary objects described in this notice.

Claims for Disposition

Written claims for disposition of the human remains and associated funerary objects in this notice must be sent to the appropriate official identified in this notice under ADDRESSES. If no claim for disposition is received by January 20, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after February 18, 2025. If competing claims for disposition are received, the Arizona Army National Guard must determine the most appropriate claimant prior to disposition. Requests for joint disposition of the human remains and associated funerary objects are considered a single request and not competing requests. The Arizona Army National Guard is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 13, 2025.
Melanie O'Brien,
Manager, National NAGPRA Program.

[FR Doc. 2025-01171 Filed 1-16-25; 8:45 am]

BILLING CODE 4312-52-P